DEPARTMENT OF ENERGY

Federal Energy Regulatory Commission

Combined Notice of Filings #1

Take notice that the Commission received the following electric rate filings:

Docket Numbers: ER13-1740-001.

Applicants: Wisconsin Public Service Corporation.

Description: Executed Coordination Agreement to be effective 5/20/2013.

Filed Date: 8/23/13.

Accession Number: 20130823-5052.

Comments Due: 5 p.m. ET 9/13/13.

Docket Numbers: ER13-1741-001.

Applicants: Upper Peninsula Power Company.

Description: UPPCO Executed Coordination to be effective 5/20/2013.

Filed Date: 8/23/13.

Accession Number: 20130823-5051.

Comments Due: 5 p.m. ET 9/13/13.

Docket Numbers: ER13-2224-000.

Applicants: Entergy Arkansas, Inc.

Description: LaGen NITSA to be effective 6/1/2013.

Filed Date: 8/22/13.

Accession Number: 20130822-5176.

Comments Due: 5 p.m. ET 9/12/13.

Docket Numbers: ER13-2225-000.

Applicants: Entergy Arkansas, Inc.

Description: EWOM 5th Rev. NITSA to be effective 5/1/2013.

Filed Date: 8/22/13.

Accession Number: 20130822-5180.

Comments Due: 5 p.m. ET 9/12/13.

Docket Numbers: ER13-2226-000.

Applicants: Entergy Arkansas, Inc.

Description: Wind Belt PtP Transfer Agreement #714 to be effective 12/1/2014.

Filed Date: 8/22/13.

Accession Number: 20130822-5191.

Comments Due: 5 p.m. ET 9/12/13.

Docket Numbers: ER13-2227-000.

Applicants: Southern California Edison Company.

Description: SGIA and Distribution Service Agmt with Joshua Tree Solar Farm to be effective 8/26/2013.

Filed Date: 8/23/13.

Accession Number: 20130823-5000.

Comments Due: 5 p.m. ET 9/13/13.

Docket Numbers: ER13-2228-000.

Applicants: Southern California Edison Company.

Description: True-Up SGIA and Distrib Serv Agmt for Site 8 Roof Top Solar Project to be effective 10/23/2013.

Filed Date: 8/23/13.

Accession Number: 20130823-5001.

Comments Due: 5 p.m. ET 9/13/13.

Docket Numbers: ER13-2229-000.

Applicants: Arizona Public Service Company.

Description: Tariff Modification Pursuant to Order No. 764 to be effective 11/1/2013.

Filed Date: 8/23/13.

Accession Number: 20130823-5002.

Comments Due: 5 p.m. ET 9/13/13.

Docket Numbers: ER13-2230-000.

Applicants: Premier Empire Energy, LLC.

Description: Premier Empire Energy MBRA Application to be effective 10/1/2013.

Filed Date: 8/23/13.

Accession Number: 20130823-5050.

Comments Due: 5 p.m. ET 9/13/13.

Docket Numbers: ER13-2231-000.

Applicants: PacifiCorp.

Description: OATT Revised Schedules 4 and 9 to be effective 9/13/2013.

Filed Date: 8/23/13.

Accession Number: 20130823-5088.

Comments Due: 5 p.m. ET 9/13/13.

Take notice that the Commission received the following electric reliability filings:

Docket Numbers: RR13-9-000.

Applicants: North American Electric Reliability Corporation.

Description: Request of North American Electric Reliability Corporation for Acceptance of its 2014 Business Plan and Budget and the 2014 Business Plans and Budgets of Regional Entities and for Approval of Proposed Assessments to Fund Budgets.

Filed Date: 8/23/13.

Accession Number: 20130823-5092.

Comments Due: 5 p.m. ET 9/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2013.
Nathaniel J. Davis, Sr.,
Deputy Secretary.

[FR Doc. 2013-21196 Filed 8-29-13; 8:45 am]

BILLING CODE 6717-01-P